DEPARTMENT OF HEALTH AND HUMAN SERVICES

National Institutes of Health

Second Annual Philip S. Chen, Jr. Distinguished Lecture on Innovation and Technology Transfer

AGENCY: National Institutes of Health, Public Health Service, HHS.

ACTION: Notice.

SUMMARY: The Office of the Director, NIH, invites you to the second annual Philip S. Chen, Jr., Ph.D. Distinguished Lecture on Innovation and Technology Transfer.

DATES: Friday, January 26, 2007, at 1 p.m.

ADDRESSES: NIH campus, 9000 Rockville Pike, Bethesda MD, NIH Clinical Center (Building 10), Lipsett Auditorium.

FOR FURTHER INFORMATION CONTACT: For additional information, sign language interpretation or accommodation for disabilities, please contact Colleen Crone at 301-496-1921 or cronec@od.nih.gov.

SUPPLEMENTARY INFORMATION: Dr. Douglas R. Lowy will present “The Science, Technology and Promise of Preventive HPV Vaccines.” Dr. Lowy is Chief of the Basic Research Laboratory and the Laboratory of Cellular Oncology at the NCI Center for Cancer Research, where he also serves as deputy director. With colleagues at NIH, he developed the original technology on which the Merck HPV vaccine, Gardasil®, is based.

This annual series honors Dr. Philip S. Chen, Jr. for his almost 50 years of service to the National Institutes of Health. Dr. Chen established NIH's Office of Technology Transfer in 1986 to implement the Federal Technology Transfer Act. The inventions in the Office of Technology Transfer's intellectual property portfolio are crucial in advancing the NIH mission—making important discoveries that improve health and save lives.

Dated: November 27, 2006.
Bonny Harbinger,
Deputy Director, Office of Technology Transfer, National Institutes of Health.

[FR Doc. E6-20577 Filed 12-4-06; 8:45 am]

BILLING CODE 4140-01-P